DEPARTMENT OF TRANSPORTATION

National Highway Traffic Safety Administration

Denial of Motor Vehicle Defect Petition

AGENCY: National Highway Traffic Safety Administration (NHTSA), Department of Transportation.

ACTION: Denial of petition for a defect investigation.

SUMMARY: This notice sets forth the reasons for the denial of a petition submitted by Mr. Chris Ruh, Mr. Don Huston, Mr. Robert Guthrie, Mr. Jeff Babiak, Mr. J. A. Massey, Ms. Michele Brown, Ms. Mary Mabry, Mr. Chris Taylor, and Mr. Victor Aguilar (hereinafter, “Petitioners”) to NHTSA's Office of Defects Investigation (ODI), received September 6, 2005, under 49 U.S.C. 30162, requesting that the agency commence a proceeding to determine the existence of a defect related to motor vehicle safety with respect to the cylinder head and spark plug assembly performance of model year (MY) 1997 through 2004 Ford vehicles with Triton V-8 and V-10 engines. After a review of the petition and other information, NHTSA has concluded that further expenditure of the agency's investigative resources on the issues raised by the petition does not appear to be warranted. The agency accordingly has denied the petition. The petition is hereinafter identified as DP05-005.

FOR FURTHER INFORMATION CONTACT: Ms. Cheryl Rose, Vehicle Control Division, Office of Defects Investigation, NHTSA, 400 Seventh Street, SW., Washington, DC 20590. Telephone: (202) 366-1869.

SUPPLEMENTARY INFORMATION: On September 6, 2005, ODI received a petition submitted by Mr. Donald W. Ricketts of Santa Clarita, CA, on the behalf of the “Petitioners” requesting that the agency investigate allegations of engine spark plug ejection in certain MY 1997 through 2004 Ford vehicles with Triton V-8 and V-10 engines (hereinafter, subject vehicles). The “Petitioners” allege the following regarding the subject vehicles:

(1) The spark plug-cylinder head assembly design is insufficient to retain the spark plugs in the cylinder heads for the life of the spark plug unless periodically inspected and, if necessary, torqued.

(2) As the vehicle ages, the spark plugs loosen in the threaded head and/or the metal fatigues causing the spark plugs to be blown out of the head.

(3) The millions of subject vehicles containing the Triton V-8 and V-10 engine present a safety hazard to occupants of the vehicle, nearby persons, and other motorists on the road.

(4) The spark plugs shoot out of the cylinder port suddenly and with great force damaging the engine and sometimes puncturing the hood.

(a) Fire and explosion are likely if the plugs puncture nearby fuel lines.

(b) Owners report a strong smell of gasoline vapor after blowouts occur and the cylinder is open, presenting an additional danger of fire and explosion.

(c) The sudden expulsion of the plug out of the head often causes drivers to be startled and lose control of the vehicle momentarily.

(d) The vehicles always lose power, and often stall.

In response to NHTSA's request for whatever supporting information the “Petitioners” could provide, one petitioner and Mr. Donald Ricketts on behalf of the “Petitioners,” submitted several complaints and repair invoices concerning the subject of their allegations. NHTSA has carefully analyzed those submissions, as well as relevant complaints in its own database, interviewed many of the complainants, including some of the “Petitioners,” and examined a vehicle containing the alleged defect.

ODI received a total of 474 non-duplicative complaints on the subject vehicles, including the several complaints submitted by Mr. Donald Ricketts on behalf of the “Petitioners” and some complaints received directly from the “Petitioners” where the complainant, or the dealer repairing the vehicle, reported that a spark plug detached from the cylinder and/or ejected from the engine (hereinafter, alleged defect). As of December 8, 2005, ODI is not aware of any allegations where the alleged defect resulted in a loss of vehicle control, a crash, an injury, or a fatality in any of the 10,319,810 subject vehicles. In addition, ODI is aware of only two incidents where the vehicle stalled without restart.

Information contained in the ODI consumer complaints and obtained from 72 telephone interviews with complainants showed the following:

(1) 99% of the complaints were on MY 1997 to 2002 subject vehicles.

(2) Most the complainants reported hearing a loud pop while driving or upon starting up the vehicle followed by a loud, repetitive clicking or popping sound.

(3) Many of the complainants reported that the popping sound was accompanied by some loss of vehicle power; however, in 99% of the incidents reported, the vehicle did not stall. In the very few incidents where the vehicle did stall, most vehicles could be restarted.

(4) Only a small percentage of the complainants cited that they smelled gas or a slight burning smell when the incident occurred.

(5) In all but a very few incidents, vehicle damage was limited to the engine. In one incident, the complaint reported that the fuel rail was damaged and replaced after one of the spark plugs ejected from the engine; however, the complainant reported that the damage did not result in any type of fuel leak or fire. In another incident, the only incident where a fire was alleged, the complainant reported that no fluid leak was observed, but that a fire resulted after the spark plug had ejected from the engine and he had restarted the vehicle and driven to another location. None of the complainants reported any damage to the vehicle hood.

(6) Only two complainants reported that they observed what appeared to be some drops of fuel coming from the cylinder where the spark plug had failed or on the spark plug itself; however, each of these complainants reported that there was no smoke or flames as a result of his incident.

In addition to its complaint analysis, ODI also examined a subject vehicle containing the alleged defect and observed the following:

(1) One of the spark plugs was detached from the cylinder threads.

(2) The bracket securing the ignition coil and spark plug assembly was broken and when the engine was running, the ignition coil, which was still attached to the engine via its wire harness, would move up and down within the cylinder.

(3) When the engine was running a loud popping or clicking noise was heard.

(4) No fluid leaks or fuel rail, smoke or flame damage was observed.

As the petitioner noted and ODI's analysis showed, it is possible for a spark plug to detach from the engine cylinder threads in the subject vehicles. However, ODI's analysis of 474 complaints describing such incidents found only a very few alleged any safety-related consequences. None of these showed any evidence of a serious safety consequence. Given the large population and relatively long exposure time of the subject vehicles, the complaint analysis indicates that the risk to motor vehicle safety from the alleged defect is very low.

In view of the foregoing, it is unlikely that the NHTSA would issue an order for the notification and remedy of the alleged defect as defined by Mr. Donald Ricketts, on behalf of the “Petitioners,” at the conclusion of the investigation requested in the petition. Therefore, in view of the need to allocate and prioritize the NHTSA's limited resources to best accomplish the agency's safety mission, the petition is denied.

Authority: 49 U.S.C. 30162(d); delegations of authority at CFR 1.50 and 501.8.

Issued on: December 22, 2005.
Daniel Smith,
Associate Administrator for Enforcement.

[FR Doc. E5-8072 Filed 12-28-05; 8:45 am]

BILLING CODE 4910-59-P